DEPARTMENT OF ENERGY

Environmental Management Site-Specific Advisory Board, Chairs Meeting

AGENCY: Department of Energy.

ACTION: Notice of open meeting.

SUMMARY: This notice announces a meeting of the Environmental Management Site-Specific Advisory Board (EM SSAB) Workshop. The Federal Advisory Committee Act (Pub. L. 92-463, 86 Stat. 770) requires that public notice of these meeting be announced in the Federal Register.

DATES: January 31-February 1, 2003.

ADDRESSES: Pecos River Village Conference Center, 711 Muscatel Lane, Carlsbad, NM.

FOR FURTHER INFORMATION CONTACT: Menice Manzanares, Northern New Mexico Citizens' Advisory Board, 1660 Old Pecos Trail, Suite B, Santa Fe, New Mexico 87505. Phone (505) 995-0393, fax:(505) 989-1752 or email: mmanzanares@doeal.gov.

SUPPLEMENTARY INFORMATION: Purpose of the Board: The purpose of the Board is to make recommendations to DOE and its regulators in the areas of environmental restoration, waste management, and related activities.

Tentative Agenda

Friday, January 31, 2003

7-8 a.m.: Registration

8-8:30 a.m.: Welcome and Introductions, Jim Brannon, NNMCAB Chair; Mayor, City of Carlsbad, U.S. DOE Designee, Martha Crosland, Designated Federal Officer, Dr. Ines Triay, Manager, Citizen Board Federal Officer

8:30-10 a.m: EM SSAB Transuranic Waste Management Workshop Introductory Presentations

10-10:15 a.m.: Break

10:15-11:30 a.m.: Round Robin Reports from SSAB Chairs on Site-Specific Transuranic Waste Issues and Concerns

11:30-12:30 p.m.: Plenary Session Discussion of Issues and Identification of Core Topics

12:30-1:30 p.m.: Lunch

1:30-3 p.m.: Core Topic Breakout Sessions

3-3:15 p.m.: Break

3:15-4 p.m.: Core Topic Breakout Sessions (continued)

4-5 p.m.: Plenary Session: Reports and Draft Recommendations from Breakout Sessions

5-5:30 p.m.: Individual SSAB Discussion of Core Topics

5:30 p.m: Public Comment

Saturday, February 1, 2003

8-8:30 a.m.: Plenary Session: Summary of Friday Session

8:30-10:30 a.m.: Core Topic Breakout Sessions (continued)

10:30-10:45 a.m.: Break

10:45-11:45 a.m.: Plenary Session: Breakout Session Final Papers

11:45-12:45 p.m: Plenary Session: Consideration of Recommendations

12:45-1 p.m.: Closing Remarks

1 p.m.: Public Comment

1:15 p.m.: Adjourn

Public Participation: The meeting is open to the public. Written statements may be filed with the Committee either before or after the meeting. Individuals who wish to make oral statements pertaining to agenda items should contact Menice Manzanares at the address or telephone number listed above. Requests must be received five days prior to the meeting and reasonable provision will be made to include the presentation in the agenda. The Deputy Designated Federal Officer is empowered to conduct the meeting in a fashion that will facilitate the orderly conduct of business. Each individual wishing to make public comment will be provided a maximum of five minutes to present their comments at the end of the meeting.

Minutes: Minutes of this meeting will be available for public review and copying at the Freedom of Information Public Reading Room, 1E-190, Forrestal Building, 1000 Independence Avenue, SW., Washington, DC 20585 between 9 a.m. and 4 p.m., Monday-Friday except Federal holidays. Minutes will also be available by writing or calling Menice Manzanares at the address or telephone number listed above.

Issued in Washington, DC on December 17, 2002.
Rachel M. Samuel,
Deputy Advisory Committee Management Officer.

[FR Doc. 02-32069 Filed 12-19-02; 8:45 am]

BILLING CODE 6450-01-P